DEPARTMENT OF TRANSPORTATION

Federal Aviation Administration

14 CFR Part 71

[Docket No. FAA-2013-0016; Airspace Docket No. 12-ASO-33]

RIN 2120-AA66

Modification and Revocation of Air Traffic Service Routes; Jackson, MS

AGENCY: Federal Aviation Administration (FAA), DOT.

ACTION: Final rule.

SUMMARY: This action modifies two jet routes and seven VOR Federal airways; and removes two VOR Federal airways in the vicinity of Jackson, MS. The FAA is taking this action due to the scheduled decommissioning of the Jackson, MS, VORTAC, and the commissioning of the Magnolia, MS, VORTAC.

DATES: Effective date 0901 UTC, August 22, 2013. The Director of the Federal Register approves this incorporation by reference action under 1 CFR part 51, subject to the annual revision of FAA Order 7400.9 and publication of conforming amendments.

FOR FURTHER INFORMATION CONTACT: Paul Gallant, Airspace, Policy and ATC Procedures Group, Office of Airspace Services, Federal Aviation Administration, 800 Independence Avenue SW., Washington, DC 20591; telephone: (202) 267-8783.

SUPPLEMENTARY INFORMATION:

History

The FAA published in the Federal Register a notice of proposed rulemaking (NPRM) to amend two jet routes and seven VOR Federal airways; and cancel two VOR Federal airways in the vicinity of Jackson, MS (78 FR 10560, February 14, 2013). Interested parties were invited to participate in this rulemaking effort by submitting written comments on the proposal. One comment was received and the commenter expressed support for the proposal.

The Rule

This action amends Title 14, Code of Federal Regulations (14 CFR) part 71 by modifying two jet routes and seven VOR Federal airways; and cancelling two VOR Federal airways in the vicinity of Jackson, MS. Specifically, this action makes the following changes to the routes:

Jet Route J-4 is amended by removing “Jackson, MS” from the description and inserting “Magnolia, MS” in its place.

Jet Route J-20 is amended by removing “Jackson, MS” from the description and inserting “Magnolia, MS” in its place. Also, the J-20 description in FAA Order 7400.9 contains an editorial error whereby “Montgomery, AL” is listed before “Meridian, MS” instead of following it. This action corrects the description by moving “Montgomery, AL” to follow “Meridian, MS” to match its proper geographic position along the route. It should be noted that this editorial error appears only in the route description in FAA Order 7400.9. J-20 is correct in the NAS database and on IFR Enroute High Altitude chart H-6.

VOR Federal Airways V-9 and V-11 are amended by removing “Jackson, MS” and inserting “Magnolia, MS” and by inserting radial intersections using the new Magnolia VORTAC.

VOR Federal Airway V-18 is amended by removing “Jackson, MS” and inserting “Magnolia, MS” in its place and by correcting the spelling of “Talladega” in the route description listed in FAA Order 7400.9.

VOR Federal Airway V-74 is amended so that the last route segment proceeds from the Greenville, MS, VOR/DME direct to the new Magnolia VORTAC instead of the Jackson VORTAC.

VOR Federal Airway V-245 is amended by removing “Jackson, MS” and substituting “Magnolia, MS,” in the description.

Currently, V-417 extends from Monroe, LA, to Charleston, SC. This action cancels the portion of V-417 that lies between Monroe, LA, and Meridian, MS. Between those two points, V-417 serves as an alternate airway to V-18. However, V-18 provides direct, more efficient routing between Monroe and Meridian, while V-417 includes two doglegs to the south of V-18, resulting in additional flying miles between Monroe and Meridian. The V-417 segments between Monroe and Meridian have been deemed obsolete and of little value to the National Airspace System (NAS), therefore, V-417 is amended to begin at Meridian and then proceed along the currently published route to Charleston.

V-427 is removed. V-427 currently extends between Monroe, LA and Jackson, MS. Similar to V-417 (above) V-427 also serves as an alternate airway to V-18, but to the north side of V-18. Since V-18 provides a direct and more efficient route between Monroe, LA, and the Jackson, MS/Magnolia, MS, area, the FAA has determined that V-427 is obsolete and of little value to the NAS.

V-555 currently extends between Picayune, MS, and Sidon, MS, and serves as an alternate route to the east of V-9, between McComb, MS, and Sidon. Since V-9 provides direct, more efficient routing between McComb and Sidon, this action modifies V-555 by removing the segment between McComb and Sidon, which has been determined to be of minimal value to the NAS. As a result, the modified V-555 extends between Picayune and McComb.

V-557 currently extends between McComb, MS and Sidon, MS and is an alternate route to the west of V-9. However, V-9 provides direct, more efficient routing between those points; therefore, the FAA has determined that V-557 is of minimal value to the NAS, and is therefore removed.

Except for editorial changes, this rule is the same as published in the NPRM.

Jet routes are published in paragraph 2004, and VOR Federal airways are published in paragraph 6010, respectively, of FAA Order 7400.9W dated August 8, 2012, and effective September 15, 2012, which is incorporated by reference in 14 CFR 71.1. The jet routes and VOR Federal airways listed in this document will be subsequently published in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure as required to preserve the safe and efficient flow of air traffic.

Environmental Review

The FAA has determined that this action is categorically excluded from further environmental documentation according to FAA Order 1050.1E, paragraph 311a. The implementation of this action will not result in any extraordinary circumstances in accordance with paragraph 304 of Order 1050.1E.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012 and effective September 15, 2012, is amended as follows:

Paragraph 2004 Jet Routes

* * * * *

J-4 [Amended]

From Los Angeles, CA, via INT Los Angeles 083° and Twentynine Palms, CA, 269° radials; Twentynine Palms; Parker, CA; Buckeye, AZ; San Simon, AZ; Newman, TX; Wink, TX; Abilene, TX; Ranger, TX; Belcher, LA; Magnolia, MS; Meridian, MS; Montgomery, AL; INT Montgomery 051° and Colliers, SC, 268° radials; Colliers; Columbia, SC; Florence, SC; to Wilmington, NC.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; Montgomery, AL; Seminole, FL; INT Seminole 129° and Orlando, FL, 306° radials; to Orlando.

* * * * *

Paragraph 6010—VOR Federal Airways

V-9 [Amended]

From Leeville, LA; McComb, MS; INT McComb 004° and Magnolia, MS 194° radials; Magnolia; Sidon, MS; Marvell, AR; Gilmore, AR; Malden, MO; Farmington, MO; St. Louis, MO; Spinner, IL; Pontiac, IL; INT Pontiac, IL 343° and Rockford, IL, 169° radials; Rockford; Janesville, WI; Madison, WI; Oshkosh, WI; Green Bay, WI; Iron Mountain, MI; to Houghton, MI.

V-11 [Amended]

From Brookley, AL; Greene County, MS; INT Greene County 315° and Magnolia, MS 133° radials; Magnolia; Sidon, MS; Holly Springs, MS; Dyersburg, TN; Cunningham, KY; Pocket City, IN; Brickyard, IN; Marion, IN; Fort Wayne, IN; to INT Fort Wayne 038° and Carleton, MI, 262° radials.

V-18 [Amended]

From Guthrie, TX, via INT Guthrie 156° and Millsap, TX, 274° radials; Millsap; Glen Rose, TX; Cedar Creek, TX; Quitman, TX; Belcher, LA; Monroe, LA; Magnolia, MS; Meridian, MS; Crimson, AL; Vulcan, AL; Talladega, AL; Atlanta, GA; Colliers, SC; Charleston, SC.

V-74 [Amended]

From Garden City, KS; Dodge City, KS; Anthony, KS; Pioneer, OK; Tulsa, OK; Fort Smith, AR; 6 miles, 7 miles wide (4 miles north and 3 miles south of centerline) Little Rock, AR; Pine Bluff, AR; Greenville, MS; Magnolia, MS.

V-245 [Amended]

From Alexandria, LA, via Natchez, MS; Magnolia, MS; Bigbee, MS; INT Bigbee 082° and Crimson, AL, 304° radials; to Crimson.

V-417 [Amended]

From Meridian, MS, via Crimson, AL; Vulcan, AL; Rome, GA; INT Rome 060° and Electric City, SC, 274° radials; INT Electric City 274° and Athens, GA, 340° radials; Athens; Colliers, SC; Allendale, SC; to Charleston, SC.

V-427 [Removed]

V-555 [Amended]

From Picayune, MS; to McComb, MS.

V-557 [Removed]

Issued in Washington, DC, on May 14, 2013.
Gary A. Norek,
Manager, Airspace Policy and ATC Procedures Group.

[FR Doc. 2013-11972 Filed 5-20-13; 8:45 am]

BILLING CODE 4910-13-P